DEPARTMENT OF TRANSPORTATION

Pipeline and Hazardous Materials Safety Administration

49 CFR Parts 172 and 177

[Docket Number PHMSA-2007-28119 (HM-247)]

RIN 2137-AE37

Hazardous Materials: Cargo Tank Motor Vehicle Loading and Unloading Operations

AGENCY: Pipeline and Hazardous Materials Safety Administration (PHMSA), DOT.

ACTION: Notice of proposed rulemaking; extension of comment period.

SUMMARY: On March 11, 2011, PHMSA published a notice of proposed rulemaking (NPRM) seeking public comment on a proposal to amend the HMR requirements for cargo tank loading or unloading operations. PHMSA is notifying the public of our intent to extend the comment period by 30 days for a notice of proposed rulemaking published on March 11, 2011.

DATES: The comment period for the NPRM closing on May 10, 2011, is extended until June 9, 2011. To the extent possible, PHMSA will consider late-filed comments during the next stage of the rulemaking process.

ADDRESSES: You may submit comments identified by the docket number (PHMSA-2007-28119) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Kurt Eichenlaub or Dirk Der Kinderen, Standards and Rulemaking Division, Pipeline and Hazardous Materials Safety Administration, telephone (202) 366-8553.

SUPPLEMENTARY INFORMATION: Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

I. Background

On March 11, 2011, PHMSA published an NPRM (HM-247; 76 FR 13313) seeking public comment on a proposal to amend the HMR requirements for cargo tank loading or unloading operations. Specifically, the NPRM amendments included requirements to:

• Assess the risks of loading and unloading operations and develop written operating procedures based on the risk assessment;

• Train hazmat employees in the relevant aspects of the operational procedures;

• Qualify annually hazmat employees who perform loading and unloading operations;

• Develop and implement a periodic maintenance schedule for equipment and conduct periodic operational tests of equipment; and

• Ensure that the equipment meets the performance standards.

In the NPRM, we invited comment on a number of provisions as well as comment on the methodology used to develop the regulatory evaluation supporting the NPRM. See the March 11, 2011 NPRM for a complete discussion of the proposals and requests for comment and information.

II. Comment Period Extension

Given the abundance of requests for comment and data contained in this NPRM as well as our consideration of a number of other proposed rulemakings concurrently impacting interested parties affected by the cargo tank motor vehicle proposals in this notice, we are providing affected entities as well as the general public an additional 30 days to allow for thorough review, analysis, and response to the NPRM. Thus, the comment period for the HM-247 NPRM is extended from May 10, 2011 until June 9, 2011.

Issued in Washington, DC, on May 5, 2011 under authority delegated in 49 CFR part 106.
Magdy El-Sibaie,
Associate Administrator for Hazardous Materials Safety.

[FR Doc. 2011-11494 Filed 5-10-11; 8:45 am]

BILLING CODE 4910-60-P